DEPARTMENT OF AGRICULTURE

Commodity Credit Corporation

Notice of Availability of the Draft Programmatic Environmental Impact Statement for the Biomass Crop Assistance Program

AGENCY: Commodity Credit Corporation and Farm Service Agency, USDA.

ACTION: Notice of Availability (NOA) and request for comments.

SUMMARY: This notice announces that the Farm Service Agency (FSA), on behalf of the Commodity Credit Corporation (CCC), has completed a Draft Programmatic Environmental Impact Statement (PEIS) for the administration and implementation of the Biomass Crop Assistance Program (BCAP) enacted by the Food, Conservation, and Energy Act of 2008 (2008 Farm Bill). FSA is requesting comments on the draft PEIS.

DATES: We will consider comments that we receive by September 24, 2009.

ADDRESSES: We invite you to submit comments on this Draft PEIS. In your comments, include the volume, date, and page number of this issue of the Federal Register. You may submit comments by any of the following methods:

• E-Mail: BCAPEIS@geo-marine.com.

• Online: Go to http://public.geo-marine.com. Follow the online instructions for submitting comments.

• Federal eRulemaking Portal: Go to http://www.regulations.gov. Follow the online instructions for submitting comments.

• Fax: (757) 873-3703.

• Mail: BCAP PEIS, c/o Geo-marine Incorporated, 2713 Magruder Boulevard, Suite D, Hampton, VA 23666.

• Hand Delivery or Courier: Deliver comments to the above mail address.

Comments may be inspected in the Office of the Director, CEPD, FSA, USDA, 1400 Independence Ave., SW., Room 4709 South Building, Washington, DC, between 8 a.m. and 4:30 p.m., Monday through Friday, except holidays. A copy of the Draft PEIS is available through the FSA home page at http://www.fsa.usda.gov/FSA/webapp?area=home&subject=ecrc&topic=nep-cd or at http://public.geo-marine.com.

FOR FURTHER INFORMATION CONTACT: Matthew Ponish, National Environmental Compliance Manager, USDA, FSA, CEPD, Stop 0513, 1400 Independence Ave, SW., Washington, DC 20250-0513, (202) 720-6853, or e-mail: Matthew.Ponish@wdc.usda.gov. Persons with disabilities who require alternative means for communication (Braille, large print, audio tape, etc.) should contact the USDA Target Center at (202) 720-2600 (voice and TDD).

SUPPLEMENTARY INFORMATION:

BCAP is authorized by Title IX of the 2008 Farm Bill (Pub. L. 110-246). The 2008 Farm Bill amends Title IX of the Farm Security and Rural Investment Act of 2002 (Pub. L. 107-171); specifically, for BCAP, the 2008 Farm Bill adds section 9011 (7 U.S.C. 8111). BCAP is intended to support the establishment and production of certain crops for conversion to bio-energy in project areas (locations) and to assist with collection, harvest, storage, and transportation of eligible material for use in a biomass conversion facility.

As a new energy program, BCAP presents an opportunity to encourage landowners and operators to produce biomass for commercial energy production in ways that both are economically and environmentally sound. CCC plans to implement BCAP by approving the best-qualifying project proposals from project sponsors (producers or facilities) and then entering into contracts with individual producers in the approved project locations. BCAP is a CCC program administered by the FSA with the support of other Federal and local agencies.

Under the National Environmental Policy Act (NEPA), the EIS process provides a means for the public to provide input on program implementation alternatives and on environmental concerns. CCC provided first notice of its intent (NOI) to prepare the proposed BCAP PEIS in the Federal Register on October 1, 2008 (73 FR 57047-57048). CCC provided an amended NOI to prepare the proposed BCAP PEIS in the Federal Register on May 13, 2009 (74 FR 22510-22511) and solicited public comment on the proposed EIS for BCAP. Six public scoping meetings were held in May and June 2009 to solicit comments for the development of alternatives and to identify environmental concerns.

FSA has considered comments gathered in the scoping process initiated with the October 1, 2008 NOI to develop the alternatives proposed for the administration and implementation of BCAP and to include in a Draft PEIS. The Draft PEIS assesses the potential environmental impacts associated with the following three alternatives:

• No Action Alternative—addresses the potential effects from not implementing BCAP.

• Action Alternative 1—addresses a targeted implementation of BCAP to specific areas or regions of the United States.

• Action Alternative 2—addresses a broad national implementation of BCAP.

The Draft PEIS also provides a means for the public to voice any suggestions on the program and any ideas for rulemaking. The Draft PEIS can be reviewed online at: http://www.fsa.usda.gov/FSA/webapp?area=home&subject=ecrc&topic=nep-cd or at http://public.geo-marine.com.

The Draft PEIS was completed as required by NEPA (42 U.S.C. 4321-4347), the Council on Environmental Quality (CEQ) Regulations for Implementing the Procedural Provisions of NEPA (40 CFR parts 1500-1508), and FSA's policy and procedures (7 CFR part 799).

Signed in Washington, DC on August 4, 2009.
Jonathan Coppess,
Administrator, Farm Service Agency, and Executive Vice President, Commodity Credit Corporation.

[FR Doc. E9-19064 Filed 8-7-09; 8:45 am]

BILLING CODE 3410-05-P